DEPARTMENT OF THE INTERIOR

Fish and Wildlife Service

Revised Recovery Plan for Hawaiian Forest Birds

AGENCY: Fish and Wildlife Service, Interior.

ACTION: Notice of document availability.

SUMMARY: The U.S. Fish and Wildlife Service (“we”) announces the availability of the Revised Recovery Plan for Hawaiian Forest Birds. There are 21 bird taxa included in this revised recovery plan; 19 are listed as endangered, 1 is a candidate species for Federal listing, and 1 is a species of concern. These taxa represent four bird families, with the majority being Hawaiian Honeycreepers (subfamily Drepanidinae, family Fringillidae). This is a new recovery plan for two of the listed birds, the O'ahu 'elepaio (Chasiempsis sandwichensis ibidis) and O‘ahu 'ālauahio (Paroreomyza maculata).

ADDRESSES: Printed copies of this revised recovery plan will be available in 4 to 6 weeks by request from the U.S. Fish and Wildlife Service, Pacific Islands Fish and Wildlife Office, 300 Ala Moana Boulevard, Room 3-122, Box 50088, Honolulu, Hawaii 96850 (telephone: 808-792-9400; fax: 808-792-9580); and the Hawaii State Library, 478 S. King Street, Honolulu, Hawaii 96813. An electronic copy of the revised recovery plan is now available online at: http://endangered.fws.gov/recovery/index.html#plans.

FOR FURTHER INFORMATION CONTACT: Marilet A. Zablan, Endangered Species Recovery Program Leader, Pacific Islands Fish and Wildlife Office, at 808-792-9400.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice and an opportunity for public review and comment be provided during recovery plan development. In fulfillment of this requirement, the Draft Revised Recovery Plan for Hawaiian Forest Birds was available for public comment from October 16 through December 15, 2003 (68 FR 59635). Information presented during the public comment period has been considered in the preparation of this revised recovery plan, and is summarized in the appendix to the plan. We will forward substantive comments regarding recovery plan implementation to appropriate Federal or other entities so that they can take these comments into account during the course of implementing recovery actions.

Of the 21 birds addressed by this revised recovery plan, the 19 federally listed as endangered are: O'ahu 'elepaio, kāma'ó or large Kaua'i thrush (Myadestes myadestinus), oloma'o or Moloka'i thrush (Myadestes lanaiensis rutha), puaiohi or small Kaua'i thrush (Myadestes palmeri), Kaua'i 'ō'ō (Moho braccatus), 'ō'ū (Psittirostra psittacea), palila (Loxioides bailleui), Maui parrotbill (Pseudonestor xanthophrys), Kaua'i 'akialoa (Hemignathus procerus), Kaua'i nukupu'u (Hemignathus lucidus hanapepe), Maui nukupu'u (Hemignathus lucidus affinis), 'akiapōlā'au (Hemignathus munroi), Hawai'i creeper (Oreomystis mana), O'ahu 'ālauahio or O'ahu creeper, 'ō'ō 'ā'ā or kākāwahie or Moloka'i creeper (Paroreomyza flammea), Hawai'i 'ākepa (Loxops coccineus coccineus), Maui 'ākepa (Loxops coccineus ochraceus), 'ākohekohe or crested honeycreeper (Palmeria dolei), and po 'ouli (Melamprosops phaeosoma). The candidate species is the 'akikiki or Kaua'i creeper (Oreomystis bairdi), and the species of concern is the Bishop’s 'ō'ō (Moho bishopi).

These taxa and their habitats have been variously affected or are currently threatened by one or more of the following: habitat degradation by wild, feral, or domestic animals (pigs, goats, and deer); predation by introduced animals (rats, cats, and mongoose); avian disease (malaria and avian pox); habitat loss due to agriculture, ranching, forest cutting, and urbanization; and habitat modification due to the invasion of nonnative plants. In addition, due to the small number of existing individuals and their very narrow distribution, these taxa are subject to an increased likelihood of extinction from random, naturally-occurring events such as hurricanes.

The objective of this revised recovery plan is to ensure the long-term conservation and recovery of these 21 taxa of Hawaiian forest birds, and to enable the eventual delisting of the 19 listed as endangered. This recovery will be accomplished through a variety of recovery actions including: measures to protect habitat where the taxa occur, restoration of degraded habitat, removal of feral ungulates from habitat areas, control of introduced rodents and feral cats that feed on forest birds, control of invasive plant species, reduction in numbers of mosquito breeding sites, captive propagation and translocation, and the development of means to address threats of avian disease. Management emphasis may differ among species, as taxa are affected differently and to varying degrees by different limiting factors. Habitat management and restoration will encourage the expansion of current populations into unoccupied habitat. However, the establishment of new populations using various translocation and/or captive propagation techniques will be needed in some cases to accelerate population expansion and to establish new populations in suitable habitat.

Authority: The authority for this action is section 4(f) of the Endangered Species Act, 16 U.S.C. 1533(f).

Dated: August 15, 2006.
Carolyn A. Bohan,
Acting Regional Director, Region 1, U.S. Fish and Wildlife Service.

[FR Doc. E6-15956 Filed 9-27-06; 8:45 am]

BILLING CODE 4310-55-P